DEPARTMENT OF THE INTERIOR

Minerals Management Service

Outer Continental Shelf Civil Penalties

AGENCY: Minerals Management Service (MMS), Interior.

ACTION: Notice summarizing Outer Continental Shelf Civil Penalties paid from January 1, 2007, through December 31, 2007.

SUMMARY: This notice provides a listing of civil penalties paid from January 1, 2007, through December 31, 2007, for violations of the Outer Continental Shelf Lands Act. The goal of the MMS Outer Continental Shelf Civil Penalties Program is to assure safe and clean operations on the Outer Continental Shelf. Through the pursuit, assessment, and collection of civil penalties and referrals for the consideration of criminal penalties, the program is designed to encourage compliance with applicable statutes and regulations. The purpose of publishing the penalties summary is to provide information to the public on violations of special concern in Outer Continental Shelf operations and to provide an additional incentive for safe and environmentally sound operations.

FOR FURTHER INFORMATION CONTACT: Joanne McCammon, Program Coordinator, at 703-787-1292.

SUPPLEMENTARY INFORMATION: The Oil Pollution Act of 1990 (OPA 90) strengthened section 24 of the Outer Continental Shelf Lands Act (OCSLA) Amendments of 1978. Subtitle B of OPA 90, titled “Penalties,” increased the amount of the civil penalty from a maximum of $10,000 to a maximum of $20,000 per violation for each day of noncompliance. More importantly, in cases where a failure to comply with applicable regulations constitutes or constituted a threat of serious, irreparable, or immediate harm or damage to life (including fish and other aquatic life); property; any mineral deposit; or the marine, coastal, or human environment; OPA 90 provided the Secretary of the Interior (Secretary) with the authority to assess a civil penalty without regard to the requirement of expiration of a period of time allowed for corrective action.

The provisions of OPA 90 also require the Secretary to adjust the maximum civil penalty to reflect any increases in the Consumer Price Index (CPI). Every 3 years, MMS analyzes the civil penalty maximum amount in conjunction with the CPI prepared by the U.S. Department of Labor. If an adjustment is necessary, MMS informs the public through the Federal Register of the new maximum amount. The MMS has published regulations adjusting the civil penalty assessment to $25,000 in August 8, 1997 (62 FR 42668), to $30,000 in November 28, 2003 (68 FR 61622), and to $35,000 in February 28, 2007 (72 FR 8897).

Between August 18, 1990, and January 2008, MMS initiated 623 civil penalty reviews. Operators have paid 498 civil penalties for a total of $18,591,792 in fines.

On September 1, 1997, the Associate Director of Offshore Minerals Management issued a notice informing lessees and operators of Federal oil, gas, and sulphur leases on the OCS that MMS will annually publish a summary of OCS civil penalties paid. The annual summary will highlight the identity of the party, the violation and date, the amount and date paid, and the regulation violated. The following table provides a listing of the 36 penalties paid between January 1, 2007, and December 31, 2007. The total amount collected is $3,106,000. The list is posted on the MMS's Web page at http://www.mms.gov/civilpenalties/.

2007 Civil/Criminal Penalties Summary—All Penalties Paid in Calendar Year 2007
[1/1/2007-12/31/2007]
Operator name and case No. | Violation and date(s) | Penalty paid and date paid | Regulation(s) violated (30 CFR)
Petro Ventures, Inc., G-2002-042 | The boat landing Emergency Shut-down (ESD) station by-passed, and the ESD station at the top of the stairs leading to the boat landing was also by-passed—both by a manual isolation valve 03-JUL-2002—12-JUL-2002 03-JUL-2002—12-JUL-2002 | $60,000, 3/14/2007 | § 250.803(c), § 250.803(c).
BP Exploration & Production Inc., (Diamond Offshore Drilling, Inc.), G-2004-003 | Operator failed to verify employees were trained to competently perform the assigned well control duties. Additionally, they failed to have a remote-controlled station that could operate the valves in the flow and vent lines of the diverter. These violations contributed to a loss of well control event on November 14, 2002. There was no pollution or injuries 04-NOV-2002—14-NOV-2002 13-NOV-2002—13-NOV-2002 | $41,000, 10/25/2007 | § 250.1503(a), § 250.409(c).
The Houston Exploration Company, G-2006-016 | Two ESD stations at the boat landing were taken out-of-service and the two primary means of escape were unsafe 18-NOV-2005—18-JAN-2006 28-OCT-2005—18-JAN-2006 | $317,500, 2/27/2007 | § 250.803(b)(4), § 250.107.
Maritech Resources Inc., G-2006-021 | A major component of the approved dry chemical firefighting system was inoperable. Four 350-pound wheel unit fire extinguishers were not ready-for-use since the nitrogen cylinders were not connected 10-MAR-2005—10-MAR-2005 | $30,000, 3/22/2007 | § 250.803(b)(8).
Maritech Resources Inc., G-2006-024 | The platform was producing without operable ESD stations on the east & west boat landings, and once the ESD stations were repaired, the block valves were left in the closed position. Additionally, surface-controlled subsurface safety valves (SCSSV's) for Wells B-1, B-4, B-10, B-20, B-22, and B-24 were blocked out-of-service since the manual override valve was closed at the main panel 01-OCT-2005—14-NOV-2005 06-NOV-2005—15-NOV-2005 | $162,500, 5/10/2007 | § 250.803(c), § 250.803(c).
Energy Partners, Ltd., G-2006-025 | A rig floor hand was injured while using a spinner wrench 06-APR-2006—06-APR-2006 | $30,000, 4/23/2007 | § 250.107.
Merit Energy Company (Island Operators Co., Inc.), G-2006-027 | Pressure vessel had a hole where an inappropriate patch was used to repair it 19-DEC-2005-31—JAN-2006 | $220,000, 4/25/2007 | § 250.107.
Mariner Energy, Inc., G-2006-028 | Employee injured when he fell 11 feet while working on an electrical tray 11 feet above the deck 01-JUN-2006—01-JUN-2006 | $30,000, 8/8/2007 | § 250.107.
Pogo Producing Company (Wood Group Production Services), G-2006-030 | The isolation valve was closed on the fuel gas supply line for the sump pump, placing the sump pump in an out-of-service mode. The condition of the sump tank was not being monitored by platform personnel 01-APR-2006—03-APR-2006 | $15,000, 2/14/2007 | § 250.300(b)(4).
Noble Energy, Inc., G-2006-031 | The Level Safety High (LSH) on the bulk oil separator MBD 1000 was found in the closed position rendering it inoperable (by-passed) Welding operations within 35 feet horizontally of equipment containing hydrocarbons from the point of impact of slag, sparks, or burning material at lower elevations and was not otherwise protected. 21-JUL-2005—21-JUL-2005 21-JUL-2005—21-JUL-2005 | $35,000, 1/25/2007 | § 250.803, § 205.113.
Nexen Petroleum U.S.A. Inc., G-2006-033 | An open hole was found on the plus 10′ deck leading to the boat landing and there was no barricade to prevent personnel from entering the unsafe area 03-MAY-2006—03-MAY-2006 | $10,000, 4/26/2007 | § 250.107(a).
Merit Energy Company, G-2006-035 | Repairs were conducted on the damaged crane boom not in accordance with API RP 2D, Section 4.3.3(e) and the crane was placed back in-service without conducting a load test 09-AUG-2006—09-AUG-2006 | $10,000, 3/14/2007 | § 250.108.
Apache Corporation, G-2006-036 | Records verified there was not a low or high pressure test conducted on the following Blow Out Preventor (BOP) related equipment: HCR choke valve, manual choke valve, HCR kill valve, manual kill valve, kill line check valve, Inside BOP valve and choke manifold. These violations were for 2 BOP test periods, 7/19/2006 and 7/26/2006. A mud-pit-level indicator with both visual and audible warning devices had not been installed. There was not a BOP station installed in the work basket of the snubbing unit. The secondary power source (air supply) was isolated with a closed manual block valve located on the inlet piping to the accumulator 02-AUG-2006—02-AUG-2006 19-JUL-2006—02-AUG-2006 21-JUL-2006—02-AUG-2006 21-JUL-2006—02-AUG-2006 26-JUL-2006—02-AUG-2006 | $446,000, 8/3/2007 | § 250.615(c), § 250.616(a), § 250.614(c), § 250.615(c), § 250.616(a).
NCX Company, L.L.C., G-2006-037 | Records verify that the Flow Safety Valves (FSV) for Wells B3 and B9 were not tested during the months of April, May, June, and July of 2006, and the FSV for Well B13 was not tested during the months of March and April of 2006. The Surface Safety Valves (SSV) for Wells B3 and B9 were not tested during the months of April, May, June, and July of 2006, and the SSV for Well B13 was not tested during the months of March and April of 2006. The Pressure Safety High and Low (PSHL) for Wells B3 and B9 were not tested during the months of May, June, and July of 2006. The LSH for the new sump pump (ABJ-B801) was not tested since the installation during the months of June and July of 2006 01-APR-2006—01-MAY-2006, 01-APR-2006—01-MAY-2006, 01-JUL-2006—01-AUG-2006, 01-JUL-2006—01-AUG-2006, 01-JUL-2006—01-AUG-2006, 01-JUN-2006—01-JUL-2006, 01-JUN-2006—01-JUL-2006, 01-JUN-2006—01-JUL-2006, 01-MAR-2006—01-APR-2006, 01-MAR-2006—01-APR-2006, 01-MAY-2006—01-JUN-2006, 01-MAY-2006—01-JUN-2006, 01-MAY-2006—01-JUN-2006 | $170,000, 6/27/2007 | § 250.804(a)(5), § 250.804(a)(6), § 250.804(a)(3), § 250.804(a)(5), § 250.804(a)(6), § 250.804(a)(3), § 250.804(a)(5), § 250.804(a)(6), § 250.804(a)(5), § 250.804(a)(6), § 250.804(a)(3), § 250.804(a)(5), § 250.804(a)(6).
Forest Oil Corporation, G-2006-038 | On WD 34 #3 caisson, an open hole was found on the plus 10′ deck leading to the boat landing with no barricade to prevent personnel from entering the unsafe area. On WD 34 #1 caisson, there were 2 open holes found: one open hole at the boat landing with no barricade and one opening in the deck on the top deck below the heliport, which was not covered, guarded, or otherwise made inaccessible 18-MAY-2006—18-MAY-2006 | $30,000, 7/23/2007 | § 250.107.
SPN Resources, G-2006-040 | Well A-16 Flowline PSHL were bypassed while not being flagged or monitored. Also, the isolation valve directly upstream of the PSV on the compressor first stage suction scrubber was closed thus rendering the PSV inoperable 14-MAY-2006—15-MAY-2006 | $20,000, 6/15/2007 | § 250.803(c).
Chevron U.S.A. Inc., G-2006-041 | The LSH on Run Tank, MAJ 1027, was bypassed while changing a leaking site glass. There was no way to monitor the level inside the vessel which was a contributing factor to the 2 bbl oil spill on August 1, 2006 01-AUG-2006—01-AUG-2006 | $15,000, 4/10/2007 | § 250.803(c).
Freeport-McMoRan Energy LLC, G-2007-001 | While changing the orifice plate on the test separator meter run, the lead operator was overcome by H2S gas. The bottom gate of the orifice fitting did not seal completely, allowing gas to leak into the atmosphere; and proper H2S safety measures had not been taken 22-SEP-2006—22-SEP-2006 22-SEP-2006—22-SEP-2006 | $50,000, 9/10/2007 | § 250.107, § 250.490(f)(1-13).
Stone Energy Corporation, G-2007-002 | The SCSSV for a well was found open and the manual block valve on the control line located at the well was closed rendering the SCSSV inoperable (by-passed), the valve would not close as designed with the loss of hydraulic pressure 19-AUG-2006—19-AUG-2006 | $10,000, 4/26/2007 | § 250.803.
Remington Oil and Gas Corporation, G-2007-004 | The mechanical ventilation safety system protecting the Mud Engineer's portable building was found manually by-passed 26-SEP-2006—26-SEP-2006 | $17,500, 8/7/2007 | § 250.459(d).
TDC Energy LLC G-2007-005 | A pollution event occurred with approximately 28 gallons spilled into Gulf waters; the skimmer tank skid, sump tank skid, and condensate pump containment skid were all full of oil; and the sump pump was inoperable 13-SEP-2006—14-SEP-2006 14-SEP-2006—14-SEP-2006 14-SEP-2006—14-SEP-2006 | $72,000, 7/10/2007 | § 250.300(a), § 250.300(b), § 250.300(b).
Linder Oil Company, A Partnership, G-2007-006 | Four violations in this case: Oil and Grease on Stairway (primary means of escape); Boat landing blocked off; Gas detection alarm system disabled; and access to two 350# wheeled fire extinguishers were blocked off 13-SEP-2006—13-SEP-2006 13-SEP-2006—13-SEP-2006 13-SEP-2006—13-SEP-2006 13-SEP-2006—13-SEP-2006 | $65,000, 7/11/2007 | § 250.107, § 250.107, § 250.107, § 250.803.
Forest Oil Corporation, G-2007-007 | During an inspection on May 18, 2006, the LSH on the vent scrubber was found by-passed, as well as the gas lift line to the sump pile was disconnected rendering the sump pile inoperable. During this initial inspection, there were 2 violations written-up for oil accumulations, one being in the compressor skid and the second around the deck of the crane. During a follow-up inspection on June 9, 2006, a closed block valve was found on the supply line to the gas lift for the sump pile rendering the sump pile inoperable. On a third follow-up inspection on June 13, 2006, the entire gas detector relay panel was found in by-pass, there were also 2 violations documented for oil accumulations, both in the same areas as documented on the May 18th inspection (compressor skid and deck area around the crane) 09-JUN-2006—09-JUN-2006 13-JUN-2006—13-JUN-2006 18-MAY-2006—18-MAY-2006 18-MAY-2006—18-MAY-2006 | $80,000, 10/5/2007 | § 250.300(b)(4), § 250.803(c)(1), § 250.803(c)(1), § 250.300(b)(4).
Forest Oil Corporation, G-2007-008 | The MMS inspector found an open hole around the BOP riser on the top deck, as well as an open hole around the BOP riser in the well bay area that was not properly barricaded to prevent a person's foot or body from inadvertently falling through the hole 14-NOV-2006—18-NOV-2006 | $80,000, 6/26/2007 | § 250.107.
Pogo Producing Company, G-2007-010 | The departing sales gas pipeline shut down valve spool connector between the ball valve and the mechanical robot device, used to open and close the valve, was cracked and allowing gas to escape into the atmosphere 08-JAN-2007—13-JAN-2007 | $120,000, 6/7/2007 | § 250.107.
Nippon Oil Exploration U.S.A. Limited, G-2007-013 | The upper and lower isolation valves on the LSH on the Vent Scrubber were found in the closed position, by-passed 26-FEB-2007—26-FEB-2007 | $10,000, 10/23/2007 | § 250.803(c).
GOM Shelf LLC (Rowan Drilling), G-2007-014 | Stairs and handrail on the cantilever pipe rack deck had been removed in order to install the diverter housing under the decking. With the stairs removed, there was no other access to the pipe rack deck. Instead of replacing the stairs, the employees were observed climbing over railing and stretching from the top of the shaker house to the pipe deck. They were not wearing fall protection (estimated fall of 25′ to the deck below). Additionally, the two areas where the handrail and stairs had been removed were not barricaded or properly guarded 11-JAN-2007—11-JAN-2007 | $40,000, 8/3/2007 | § 250.401(e).
Energy Partners, Ltd, G-2007-015 | The fuel gas scrubber PSV was found blocked off and not flagged or monitored by personnel 08-MAR-2007—15-MAR-2007 | $80,000, 7/17/2007 | § 250.803(c).
Devon Energy Production Company, L.P., G-2007-017 | An employee's unsafe and un-workmanlike action resulted in him falling 15′ to the deck below 16-MAR-2007—16-MAR-2007 | $20,000, 12/11/2007 | § 250.107.
PetroQuest Energy LLC, G-2007-018 | The SCSSV had been rendered inoperable since the isolation valve located at the wellhead was closed 15-MAR-2007—25-MAR-2007 | $10,000, 9/5/2007 | § 250.803(c).
Apache Corporation, G-2007-019 | There was a failure to maintain an operable drill floor Emergency Shut-Down station with simultaneous well production 16-APR-2007—16-APR-2007 | $20,000, 9/26/2007 | § 250.406.
Petrobras America Inc., G-2007-020 | During completion operations on the Transocean Offshore F100 drilling rig, two contract workers were seriously injured when a lifting sub that was being used to lift production tubing backed out of its connection and fell 65′ to the rig floor striking the 2 workers 19-FEB-2007—19-FEB-2007 | $30,000, 11/6/2007 | § 250.107(a).
Dominion Exploration & Production, Inc., G-2007-024 | After being denied a departure request to produce the H2 well with casing pressure, Dominion pulled the DX plug and produced the well for 279 days 15-JUN-2006—20-MAR-2007 | $697,500, 12/13/2007 | § 250.107(a).
W&T Offshore, Inc., G-2007-026 | The MMS Inspector found the starter gas for the fire water pump was blocked closed rendering the pump inoperable 13-MAY-2007—13-MAY-2007 | $35,000, 12/19/2007 | § 250.803(b)(8).
Apache Corporation, G-2007-028 | The MMS Inspector discovered that an additional section of metal plating had been removed from the ladder access opening for the mud pit tank. The removed section extended the opening beyond the three barricaded sides of the ladder access, creating a hazard for personnel 13-APR -2007 -13-APR-2007 | $12,000, 11/15/2007 | CFR 250.107.
Devon Energy Production Co., L.P., G-2007-032 | The LSH on the 1st stage suction scrubber; and the LSH on the 3rd stage suction scrubber were both found in by-pass 22-JUN-2007—22-JUN-2007 22-JUN-2007—22-JUN-2007 | $15,000, 12/19/2007 | § 250.803(c), § 250.803(c).
Total Penalties Paid: 1/1/07-12/31/07
36 Cases: $3,106,000

The purpose of publishing the penalties summary is to provide information to the public on violations of special concern in OCS operations and to provide an additional incentive for safe and environmentally sound operations.

Authority: 31 U.S.C. 9701, 43 U.S.C. 1334.

Dated: February 26, 2008.
Chris Oynes,
Associate Director for Offshore Minerals Management.

[FR Doc. E8-6687 Filed 3-31-08; 8:45 am]

BILLING CODE 4310-MR-P